DEPARTMENT OF TRANSPORTATION

Federal Aviation Administration

14 CFR Part 73

[Docket No. FAA-2005-22397; Airspace Docket No. 05-ASO-9]

RIN 2120-AA66

Modification of Restricted Area R-3004; Fort Gordon, GA

AGENCY: Federal Aviation Administration (FAA), DOT.

ACTION: Final rule.

SUMMARY: This action modifies Restricted Area R-3004, Fort Gordon, GA, by vertically subdividing the airspace into two separate areas; R-3004A (surface to 7,000 feet Mean Sea Level (MSL)) and R-3004B (7,001 feet MSL to 16,000 feet MSL). This modification will not alter the existing lateral boundary or current upper limit of restricted airspace, or change the use of the area. The FAA is taking this action to allow for more efficient real-time utilization of the airspace during periods when only the lower segment of the restricted area is needed for military operations.

DATES: Effective 0901 UTC, December 22, 2005.

FOR FURTHER INFORMATION CONTACT: Paul Gallant, Airspace and Rules, Office of System Operations Airspace and AIM, Federal Aviation Administration, 800 Independence Avenue, SW., Washington, DC 20591; telephone (202) 267-8783.

SUPPLEMENTARY INFORMATION:

Background

In its current configuration, R-3004 extends from the surface to 16,000 feet MSL. However, a number of military missions conducted in the area only require restricted airspace up to 7,000 feet MSL. This results in the airspace above 7,000 feet MSL being unnecessarily restricted during periods when only low altitude activities are in progress. Subdividing the restricted area at 7,000 feet MSL will facilitate the more efficient use of airspace by releasing the altitudes above 7,000 feet MSL during those periods when only the lower altitude stratum is needed for military operations.

The Rule

This action amends Title 14 Code of Federal Regulations (14 CFR) part 73 by subdividing R-3004 into two separate areas, designated R-3004A and R-3004B. This subdivision will not change the overall external boundaries, designated altitudes, time of designation, or activities conducted within the restricted area.

This action will facilitate the release of restricted airspace that is not needed for military operations, and will enhance the efficient use of the navigable airspace. Therefore, notice and public procedure under 5 U.S.C. 553(b) are unnecessary.

This regulation is limited to an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This action is a minor change to the technical description of special use airspace to internally subdivide an existing restricted area. This action does not alter the overall dimensions, altitudes, or time of designation of R-3004. Therefore, this action is not subject to environmental assessments and procedures in accordance with FAA Order 1050.1E, “Environmental Impacts: Policies and Procedures,” paragraph 311d.

List of Subjects in 14 CFR Part 73

Airspace, Prohibited Areas, Restricted Areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. Section 73.30 is amended as follows:

* * * * *

R-3004 Fort Gordon, GA [Revoke]

* * * * *

R-3004A Fort Gordon, GA [Added]

Boundaries. Beginning at lat. 33°21′54″ N., long. 82°12″14″ W.; to lat. 33°19′44″ N., long. 82°12′14″ W.; to lat. 33°16′21″ N., long. 82°17′59″W.; to lat. 33°17′30″ N., long. 82°22′59″ W.; to lat. 33°21′16″ N., long. 82°18′46″ W.; to lat. 33°22′16″ N., long. 82°16′59″ W.; to the point of beginning.

Designated altitudes. Surface to 7,000 feet MSL.

Time of designation. By NOTAM 24 hours in advance.

Controlling agency. FAA, Atlanta ARTCC.

Using agency. U.S. Army, Commanding Officer, Fort Gordon, GA.

Aircraft activity is limited to the following terms and conditions:

1. Aircraft activities may not be conducted on weekends, National holidays, or the entire week of the Masters Golf Tournament.

2. Aircraft activities may only be conducted from the surface to 12,000 feet AGL.

3. Weather conditions required for aircraft activities are 5 miles visibility and with prevailing clouds or obscuring phenomena no greater than five-tenths coverage of the sky and bases no lower than 3,000 feet AGL.

R-3004B Fort Gordon, GA [Added]

Boundaries. Beginning at lat. 33°21′″54″ N., long. 82°12′14″ W.; to lat. 33°19′44″ N., long. 82°12′14″ W.; to lat. 33°16′21″ N., long. 82°17′59″ W.; to lat. 33°17′30″ N., long. 82°22′59″ W.; to lat. 33°21′16″ N., long. 82°18′46″ W.; to lat. 33°22′16″ N., long. 82°16′59″ W.; to the point of beginning.

Designated altitudes. 7,001 feet MSL to 16,000 feet MSL.

Time of designation. By NOTAM 24 hours in advance

Controlling agency. FAA, Atlanta ARTCC.

Using agency. U.S. Army, Commanding Officer, Fort Gordon, GA.

Aircraft activity is limited to the following terms and conditions:

1. Aircraft activities may not be conducted on weekends, National holidays, or the entire week of the Masters Golf Tournament.

2. Aircraft activities may only be conducted from the surface to 12,000 feet AGL.

3. Weather conditions required for aircraft activities are 5 miles visibility and with prevailing clouds or obscuring phenomena no greater than five-tenths coverage of the sky and bases no lower than 3,000 feet AGL.

* * * * *

Issued in Washington, DC, on September 15, 2005.
Edith V. Parish,
Acting Manager, Airspace and Rules.

[FR Doc. 05-19204 Filed 9-26-05; 8:45 am]

BILLING CODE 4910-13-P